DEPARTMENT OF THE INTERIOR

Fish and Wildlife Service

Issuance of Permit for Incidental Take of Threatened Species for the Mayhoffer/Singletree Trail, Boulder County, CO

AGENCY: Fish and Wildlife Service, Interior.

ACTION: Issuance of Permit for Incidental Take of Endangered Species.

SUMMARY: On April 4, 2003, a notice was published in the Federal Register (68 FR 16543) that an application had been filed with the Fish and Wildlife Service (Service) by the Boulder County Parks and Open Space Department, Colorado, for a permit to incidentally take, pursuant to section 10(a)(1)(B) of the Endangered Species Act of 1973, as amended (Act) (16 U.S.C. 1539), Preble's meadow jumping mouse, pursuant to the terms of the Environmental Assessment/Habitat Conservation Plan for Issuance of an Endangered Species Section 10(a)(1)(B) Permit for the Incidental Take of the Preble's Meadow Jumping Mouse (Zapus hudsonius preblei) for the Mayhoffer/Singletree Trail in Boulder County, Colorado.

Notice is hereby given that on June 18, 2003, as authorized by the provisions of the Act, the Service issued a permit (TE-073325-0) to the above named party subject to certain conditions set forth therein. The permit was granted only after the Service determined that it was applied for in good faith, that granting the permit will not be to the disadvantage of the threatened species, and that it will be consistent with the purposes and policy set forth in the Act.

Additional information on this permit action may be requested by contacting the Colorado Ecological Services Field Office at 755 Parfet Street, Suite 361, Lakewood, Colorado 80215, telephone (303) 275-2370, between the hours of 7 a.m. and 4:30 p.m. weekdays.

Dated: June 25, 2003.
John A. Blankenship,
Regional Director, Region 6.

[FR Doc. 03-17577 Filed 7-10-03; 8:45 am]

BILLING CODE 4310-55-P